DEPARTMENT OF ENERGY

Notice of Cancellation of Programmatic Environmental Impact Statement for Implementation of the Carbon Sequestration Program

AGENCY: National Energy Technology Laboratory, Department of Energy.

ACTION: Notice of cancellation of Environmental Impact Statement Process.

SUMMARY: The Department of Energy (DOE) has decided to cancel the preparation of a Programmatic Environmental Impact Statement (PEIS) for the assessment of potential environmental impacts from DOE's Carbon Sequestration Program, as described in a Notice of Intent published in the Federal Register on April 21, 2004 (69 FR 21514). DOE had intended to prepare the PEIS, pursuant to the National Environmental Policy Act (NEPA), to address the potential environmental impacts of carbon sequestration technologies and potential future demonstration activities under the Carbon Sequestration Program, which is being implemented by the DOE Office of Fossil Energy through its National Energy Technology Laboratory. DOE conducted public scoping meetings in May and June 2004 in eight cities, and began preparation of the PEIS.

However, upon further consideration, DOE has determined that the continuation of the PEIS did not warrant its effort and expense since the research from the Regional Partnerships and other Program activities in carbon sequestration are enhancing our understanding of the area and the PEIS would not direct any programmatic decisions at this time. DOE will continue to perform project-specific NEPA reviews of its carbon sequestration research, development and demonstration activities.

In order to facilitate future project-specific NEPA reviews, DOE will make available to the public a Carbon Sequestration Reference Document, based on the data and analyses developed in conjunction with the PEIS preparation effort. DOE believes this approach would best enable the Department to meet its Carbon Sequestration Program objectives and continue to provide pertinent environmental data and analyses for future project- and site-specific NEPA reviews under the Program.

FOR FURTHER INFORMATION CONTACT: Heino Beckert, National Energy Technology Laboratory, U.S. Department of Energy, P.O. Box 880, Morgantown, WV 26507-0880, by telephone (304) 285-4132, or electronic mail at heino.beckert@netl.doe.gov.

Issued in Pittsburgh, PA, on this 9th day of February, 2007.
Carl O. Bauer,
Director, National Energy Technology Laboratory.

[FR Doc. E7-3178 Filed 2-23-07; 8:45 am]

BILLING CODE 6450-01-P